DEPARTMENT OF AGRICULTURE

Forest Service

Elko Resource Advisory Committee

AGENCY: Forest Service, USDA.

ACTION: Notice of meeting.

SUMMARY: The Elko Resource Advisory Committee (RAC) will meet in Elko, Nevada. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meetings are open to the public.

DATES: The June meeting will be held on Friday, June 10th, 2011 and will begin at 1 p.m. The July meeting will be held on Friday, July 8th, 2011 and will begin at 1 p.m.

ADDRESSES: Both meetings will be held in the Forest Service office at 2035 Last Chance Road, Elko, NV 89801.

FOR FURTHER INFORMATION CONTACT: Doug Clarke, RAC Coordinator, USDA, Humboldt-Toiyabe National Forest, Mountain City Ranger District, 2035 Last Chance Road, Elko, NV 89801 (775) 778-6127; e-mail: dclarke@fs.fed.us. Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION.

SUPPLEMENTARY INFORMATION: Agenda items for June 10th meeting include: (1) Brief review of Secure Rural Schools and Community Self-Determination Act; (2) Review roles of RAC committee members and Committee Chairman; (3) Overview of project selection process; (4) Presentation and review of submitted proposals, and (5) Public Comment. Agenda items for July 8th meeting include: (1) Overview of project selection process; (2) Presentation and review of submitted proposals, (3) Selection of recommended proposals by RAC, and (4) Public Comment.

Both meetings are open to the public. Public input opportunity will be provided and individuals will have the opportunity to address the Committee at that time.

Project submittals by qualified entities must be received no later than 5:00 p.m. on June 24th, 2011. Project forms and instructions are available on the Secure Rural Schools Web site— https://fsplaces.fs.fed.us/fsfiles/unit/wo/secure_rural_schools.nsf.

Dated: May 12, 2011.
JoEllen J. Keil,
Acting Forest Supervisor, Humboldt-Toiyabe National Forest.

[FR Doc. 2011-12287 Filed 5-20-11; 8:45 am]

BILLING CODE 3410-11-P